DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Short Supply—Unprocessed Western Red Cedar.

OMB Control Number: 0694-0025.

Form Number(s): None.

Type of Request: Extension of a currently approved collection without change.

Burden Hours: 35.

Number of Respondents: 35.

Average Hours per Response: 1 hour.

Needs and Uses: Section 7(i) of the Export Administration Act (EAA) of 1979, as amended, prohibits the export of unprocessed western red cedar (WRC) harvested from State or Federal lands, except for unprocessed WRC harvested under contracts entered into before September 30, 1979. To enforce this prohibition, section 754.4 of the Export Administration Regulations requires a validated license for the export of unprocessed WRC harvested from private lands or from State or Federal lands under contracts entered into prior to October 1, 1979. Applications for export licenses must include affidavits, supported by a certificate of inspection issued by a log scaling and grading bureau, to prove the applicant's compliance with the EAA.

Affected Public: Business and other for-profit organizations.

Frequency: On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: August 12, 2009.
Gwellnar Banks,
Management Analyst, Office of the Chief Information Officer.

[FR Doc. E9-19728 Filed 8-17-09; 8:45 am]

BILLING CODE 3510-33-P